DEPARTMENT OF EDUCATION

[CFDA No. 84.229A]

Office of Postsecondary Education; Language Resource Centers Program; Notice Inviting Applications for New Awards for Fiscal Year (FY) 2002

Purpose of Program: The Language Resource Centers Program provides assistance to establish, strengthen and operate centers that serve as resources for improving the nation's capacity for teaching and learning foreign languages.

Eligible Applicants: Institutions of higher education and combinations of institutions of higher education.

Applications Available: April 12, 2002.

Deadline for Transmittal of Applications: May 31, 2002.

Estimated Available Funds: $720,000.

Estimated Range of Awards: $350,000—$400,000.

Estimated Average Size of Awards: $360,000 per year.

Estimated Number of Awards: 1 award for a South Asia language resource center and 1 award for a Middle East language resource center.

Note: The Department is not bound by any estimates in this notice.

Project Period: Up to 48 months.

Page Limit: The application narrative (Part III of the application) is where you, the applicant, address the selection criteria that reviewers use to evaluate your application. You must limit Part III to the equivalent of no more than 55 pages, using the following standards:

• A “page” is 8.5″ x 11″, on one side only, with 1” margins at the top, bottom, and both sides.

• Double space (no more than three lines per vertical inch) all text in the application narrative, including titles, headings, footnotes, quotations, references, and captions, as well as all text in charts, tables, figures, and graphs.

• Use a font that is either 12-point or larger or no smaller than 10-pitch (characters per inch).

The page limit does not apply to Part I, the cover sheet; Part II, the budget section, including the narrative budget justification; Part IV, the assurances and certifications; or the one-page abstract, the resumes, the timeline, or the letters of support. However, you must include all of the application narrative in Part III.

We will reject your application if—

• You apply these standards and exceed the page limit; or

• You apply other standards and exceed the equivalent of the page limit.

Applicable Regulations: (a) The Education Department General Administrative Regulations (EDGAR) in 34 CFR parts 74, 75, 77, 80, 82, 85, 86, 97, 98 and 99. and, (b) The regulations for this program in 34 CFR parts 655 and 669.

Priority: This competition focuses on projects designed to meet one of the priorities in the regulations for this program (34 CFR 669.22(a)(2). In particular, the competition focuses on the following priority:

Specific foreign languages for study or materials development: A language resource center funded under this priority must focus either on the languages of the Middle East or the languages of South Asia.

Under 34 CFR 75.105(c)(3) we consider only applications that meet the priority.

FOR FURTHER INFORMATION CONTACT: Jose L. Martinez or G. Edward McDermott, Language Resource Centers Program, U.S. Department of Education, International Education and Graduate Programs Service, 1990 K Street NW., Suite 600, Washington, DC 20006-8521. Telephone: (202) 502-7635 for Mr. Martinez, and (202) 502-7636 for Mr. McDermott, or via Internet: jose.martinez@ed.gov ed.mcdermott@ed.gov

If you use a telecommunications device for the deaf (TDD), you may call the Federal Information Relay Service (FIRS) at 1-800-877-8339.

Individuals with disabilities may obtain this document in an alternative format (e.g., Braille, large print, audiotape, or computer diskette) on request to the program contact persons listed under FOR FURTHER INFORMATION CONTACT.

Individuals with disabilities may obtain a copy of the application package in an alternative format by contacting those persons. However, the Department is not able to reproduce in an alternative format the standard forms included in the application package.

Electronic Access to This Document

You may view this document, as well as all other Department of Education documents published in the Federal Register, in text or Adobe Portable Document Format (PDF) on the Internet at the following site: www.ed.gov//legislation/FedRegister

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 1123.

Dated: April 8, 2002.
Sally L. Stroup,
Assistant Secretary, Office of Postsecondary Education.

[FR Doc. 02-8809 Filed 4-10-02; 8:45 am]

BILLING CODE 4001-01-P